DEPARTMENT OF HOMELAND SECURITY

Coast Guard

33 CFR Part 165

[Docket No. USCG-2018-0845]

Safety Zones; Spaceport Camden, Woodbine, GA

AGENCY: Coast Guard, DHS.

ACTION: Notice of public meeting; request for comments.

SUMMARY: The U.S. Coast Guard announces a public meeting to receive comments on a Notice of Inquiry (NOI) involving a proposal to establish safety zones on the navigable waterways in the vicinity of the proposed Spaceport Camden, near Woodbine, Georgia, during rocket tests, launches, and landing operations. The NOI was published in the Federal Register on September 11, 2018. The purpose of this public meeting is to receive comments regarding the proposed safety zones.

DATES: A public meeting will be held on September 27, 2018 from 5 p.m. to 7 p.m. to provide an opportunity for oral comments. Written comments and related material may also be submitted to Coast Guard personnel specified at that meeting. All comments and related material submitted after the meeting must be received by the Coast Guard on or before October 11, 2018.

ADDRESSES: The public meeting will be held at the Camden County Public Service Authority Recreation Center, 1050 Wildcat Drive, Kingsland, Georgia 31548. Parking is available at the Recreation Center.

You may submit written comments identified by docket number USCG-2018-0845 using the Federal eRulemaking Portal at http://www.regulations.gov.

FOR FURTHER INFORMATION CONTACT: If you have questions concerning the meeting or NOI, please call or email LT Joseph Palmquist, Coast Guard; telephone 912-652-4353 ext. 221, email joseph.b.palmquist@uscg.mil.

SUPPLEMENTARY INFORMATION:

I. Background and Purpose

We are announcing a public meeting to receive comments regarding a proposal to establish safety zones on the navigable waterways in the vicinity of the proposed Spaceport Camden, near Woodbine, Georgia. We published a Notice of Inquiry (NOI) in the Federal Register on September 11, 2018 (83 FR 45864), entitled “Safety Zone; Spaceport Camden, Woodbine, GA.” In it we stated our intention to hold a public meeting, and to publish a notice announcing the location and date (83 FR 45866). This document is the notice of that meeting.

In the NOI, we announced that the Board of County Commissioners of Camden County, Georgia proposes to develop and operate a commercial space launch site, called Spaceport Camden, in an unincorporated area of Camden County, Georgia, approximately 11.5 miles due east of the town of Woodbine, Georgia. The site, near Floyd Creek, is on the coast, surrounded by salt marshes to the east and south, and the Satilla River to the north. In support of Spaceport Camden, the Board of County Commissioners of Camden County, Georgia requested that the Coast Guard establish safety zones which would be effective during launch, landing, and rocket test activities at the site.

The Coast Guard establishes safety zones over areas of water and/or shore for safety or environmental purposes pursuant to the authority contained in 33 CFR part 165. A safety zone is a “. . . water area, shore area, or water and shore area to which, for safety or environmental purposes, access is limited to authorized persons, vehicles, or vessels.”

The applicants for Spaceport Camden propose up to 12 annual launches and landings during daylight hours, with one possible nighttime launch per year, of liquid-fueled, small to medium-large lift-class, orbital and suborbital vertical launch vehicles. In support of the proposed launches, the applicants for Spaceport Camden propose up to 12 engine tests per year. Launch trajectories would vary from 83 to 115 degrees for vehicles up to and including medium-large lift class. Because the trajectory of these launches would take the rockets over various navigable waterways, creeks and tributaries, sections of land, and areas offshore, applicants are required to limit or restrict access to certain areas surrounding a rocket test/launch site based on specific hazard analysis. The applicant's request to establish safety zones during rocket launches, landings, and various tests is one element in meeting these safety requirements

The range of potential safety zones for launch and landing activities encompasses an area which accounts for safety concerns associated with all potential launch trajectories. Individual launch safety zones could be smaller and depend on several factors unique to each event, such as actual trajectory, lift class, and payload. The range of potential safety zones for rocket tests encompasses a smaller area directly around the commercial space launch site. In all instances, the potential safety zones would be necessary to safeguard persons, property, and the marine environment during rocket launches, landings, and rocket test activities.

You may view the NOI in our online docket and comments submitted thus far by going to http://www.regulations.gov. Once there, insert “USCG-2018-0845” in the “Keyword” box and click “Search.”

We encourage you to participate in this NOI by submitting comments either orally at the meeting or in writing. If you bring written comments to the meeting, you may submit them to Coast Guard personnel specified at the meeting to receive written comments. These comments will be submitted to our online public docket. All comments received will be posted without change to http://www.regulations.gov and will include any personal information you have provided.

Comments submitted after the meeting must reach the Coast Guard on or before October 11, 2018. We encourage you to submit comments through the Federal eRulemaking Portal at http://www.regulations.gov. If your material cannot be submitted using http://www.regulations.gov, contact the person in the FOR FURTHER INFORMATION CONTACT section of this document for alternate instructions.

Anyone can search the electronic form of comments received into any of our dockets by the name of the individual submitting the comment (or signing the comment, if submitted on behalf of an association, business, labor union, etc.). You may review a Privacy Act notice regarding our public dockets in the March 24, 2005, issue of the Federal Register (70 FR 15086).

II. Information on Service for Individuals With Disabilities

For information on facilities or services for individuals with disabilities or to request special assistance at the public meeting, contact LT Joseph Palmquist at the telephone number or email address indicated under the FOR FURTHER INFORMATION CONTACT section of this notice.

III. Public Meeting

The Coast Guard will hold a public meeting to receive comments on the proposal to establish safety zones on the navigable waterways in and near the proposed Spaceport Camden, near Woodbine, GA. The meeting will take place on September 27, 2018 from 5 p.m. to 7 p.m. at Camden County Public Service Authority Recreation Center, 1050 Wildcat Drive, Kingsland, Georgia 31548. Parking is available at the Recreation Center.

Dated: September 14, 2018.
N.C. Witt,
Commander, U.S. Coast Guard, Captain of the Port Savannah.

[FR Doc. 2018-20335 Filed 9-18-18; 8:45 am]

BILLING CODE 9110-04-P